DEPARTMENT OF THE INTERIOR

Bureau of Land Management

[CO-934-5700; COC60743, COC60750, COC60755, COC60756, COC60757, COC60758, COC60759, COC60760]

Notice of Proposed Reinstatement of Terminated Oil and Gas Leases

Pursuant to the provisions of 30 U.S.C. 188 (d) and (e), and 43 CFR 3108.2-3 (a) and (b)(1), a petition for reinstatement of oil and gas leases, COC60743, COC60750, and COC60755, COC60756, COC60757, COC60758, COC60759, and COC60760, for lands in Rio Blanco County, Colorado, were timely filed and were accompanied by all the required rentals accruing from the date of termination.

The lessees have agreed to the amended lease terms for rentals and royalties at rates of $10.00 per acre, or fraction thereof, per year and 16⅔ percent, respectively.

The lessees have paid the required $500 administrative fee and $158 to reimburse the Department for the cost of this Federal Register notice. The lessees have met all the requirements for reinstatement of the leases as set out in Section 31 (d) and (e) of the Mineral Lands Leasing Act of 1920 (30 U.S.C. 188), and Bureau of Land Management is proposing to reinstate leases COC60743, COC60750, COC60755, COC60756, COC60757, COC60758, COC60759, and COC60760, effective October 1, 2000, subject to the original terms and conditions of the leases and the increased rental and royalty rates cited above.

Beverly Derringer,
Supervisory Land Law Examiner, Oil and Gas Lease Maintenance.

[FR Doc. 01-13975 Filed 6-1-01; 8:45 am]

BILLING CODE 4310-JB-U